FEDERAL COMMUNICATIONS COMMISSION

47 CFR Part 73

[DA 04-3702; MB Docket No. 04-431, RM-11115]

Radio Broadcasting Services; Hermitage, AR

AGENCY: Federal Communications Commission.

ACTION: Proposed rule.

SUMMARY: The Audio Division requests comments on a petition filed by Charles Crawford proposing the allotment of Channel 300A at Hermitage, Arkansas, as the community's first local aural transmission service. Channel 300A can be allotted to Hermitage in compliance with the Commission's minimum distance separation requirements with a site restriction of 9.8 kilometers (6.1 miles) east to avoid a short-spacing to the construction permit site for Station KLAL(FM), Channel 299C1, Wrightsville, Arkansas. The coordinates for Channel 300A at Hermitage are 33-25-00 North Latitude and 92-04-30 West Longitude.

DATES: Comments must be filed on or before January 31, 2005, reply comments on or before February 15, 2005.

ADDRESSES: Federal Communications Commission, Washington, DC 20554. In addition to filing comments with the FCC, interested parties should serve the petitioner, or its counsel or consultant, as follows: Charles Crawford, 4553 Bordeaux Ave., Dallas, Texas 75205 (Petitioner).

FOR FURTHER INFORMATION CONTACT: Sharon P. McDonald, Media Bureau, (202) 418-2180.

SUPPLEMENTARY INFORMATION: This is a synopsis of the Commission's Notice of Proposed Rule Making, MB Docket No. 04-431, adopted December 8, 2004, and released December 10, 2004. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Arkansas, is amended by adding Hermitage, Channel 300A.

Federal Communications Commission.
John A. Karousos,
Assistant Chief, Audio Division, Media Bureau.

[FR Doc. 04-28424 Filed 12-28-04; 8:45 am]

BILLING CODE 6712-01-P